OFFICE OF THE UNITED STATES TRADE REPRESENTATIVE

[Docket No. USTR-2013-0030]

2013 Special 301 Out-of-Cycle Review of Notorious Markets: Notice of Extension for Public Comments

AGENCY: Office of the United States Trade Representative.

ACTION: Notice of extension of deadline for public comments.

SUMMARY: The Office of the United States Trade Representative published a request for comments in the 2013 Special 301 Out-of-Cycle Review of Notorious Markets in the Federal Register of September 20, 2013. That notice provided a deadline for comments of October 11, 2013. This notice extends that deadline to October 25, 2013.

DATES: The extended deadline for interested parties to submit written comments is October 25, 2013.

ADDRESSES: All written comments should be sent electronically via http://www.regulations.gov, docket number USTR-2013-0030. Submissions should contain the term “2013 Out-of-Cycle Review of Notorious Markets” in the “Type Comment” field on http://www.regulations.gov. If you are unable to provide submissions at www.regulations.gov, please contact Cecelia Jones-Davis, Executive Assistant, Office of the United States Trade Representative, at (202) 395-9651, to arrange for an alternative method of transmission.

FOR FURTHER INFORMATION CONTACT: Cecelia Jones-Davis, Executive Assistant, Office of the United States Trade Representative, at (202) 395-9651. Further information about Special 301 can be found at http://www.ustr.gov.

SUPPLEMENTARY INFORMATION: USTR conducts a yearly Out-of-Cycle Review of Notorious Markets, resulting in publication, separately from the annual Special 301 report, of a “Notorious Markets List.” The Office of the United States Trade Representative (USTR) is requesting written submissions from the public identifying potential Internet and physical notorious markets that exist outside the United States and that may be included in the 2013 Notorious Markets List. Further information regarding requirements for submissions is included in the September 20, 2014 Federal Register notice requesting public comments in the 2013 Special 301 Out-of-Cycle Review of Notorious Markets (78 FR 57924).

Stanford K. McCoy,
Assistant U.S. Trade Representative for Intellectual Property and Innovation.

[FR Doc. 2013-23856 Filed 9-30-13; 8:45 am]

BILLING CODE 3290-F3-P